DEPARTMENT OF THE TREASURY

Office of the Comptroller of the Currency

Office of Thrift Supervision

BOARD OF GOVERNORS OF THE FEDERAL RESERVE SYSTEM

FEDERAL DEPOSIT INSURANCE CORPORATION

Agency Information Collection Activities: Submission for OMB Review; Comment Request—CRA Sunshine

AGENCIES: Office of the Comptroller of the Currency (OCC), Treasury; Board of Governors of the Federal Reserve System (Board); Federal Deposit Insurance Corporation (FDIC); and Office of Thrift Supervision (OTS), Treasury.

ACTION: Joint notice and request for comment.

SUMMARY: In accordance with requirements of the Paperwork Reduction Act of 1995 (44 U.S.C. 3501 et seq.), the OCC, Board, FDIC, and OTS (collectively, the Agencies) may not conduct or sponsor, and a respondent is not required to respond to, an information collection unless it displays a currently valid Office of Management and Budget (OMB) control number. The Agencies hereby give notice that they plan to submit information collections regarding their respective CRA Sunshine (Disclosure and Reporting of CRA-Related Agreements) regulations to OMB for review and approval.

DATES: Submit written comments on or before January 30, 2004.

ADDRESSES: You should direct your comments to:

OCC: Public Information Room, Office of the Comptroller of the Currency, Mailstop 1-5, Attention: 1557-0219, 250 E Street, SW., Washington, DC 20219. Due to delays in paper mail delivery in the Washington area, commenters are encouraged to submit their comments by fax to (202) 874-4448, or by e-mail to regs.comments@occ.treas.gov. You can make an appointment to inspect the comments by calling (202) 874-5043 for an appointment.

Board: Comments may be mailed to Ms. Jennifer J. Johnson, Secretary, Board of Governors of the Federal Reserve System, 20th Street and Constitution Avenue, NW., Washington, DC 20551. However, because paper mail in the Washington area and at the Board of Governors is subject to delay, please consider submitting your comments by e-mail to regs.comments@federalreserve.gov, or faxing them to the Office of the Secretary at (202) 452-3819 or (202) 452-3102. Members of the public may inspect comments in Room MP-500 between 9 a.m. and 5 p.m. on weekdays pursuant to § 261.12, except as provided in § 261.14, of the Board's Rules Regarding Availability of Information, 12 CFR 261.12 and 261.14.

FDIC: Steven F. Hanft, (202) 898-3907, Legal Division (Consumer and Compliance Unit), Room MB-3064, Federal Deposit Insurance Corporation, 550 17th Street, NW., Washington, DC 20429. All comments should refer to the OMB control number 3064-1039. Comments may be hand-delivered to the guard station at the rear of the 17th Street building (located on F Street) on business days between 7 a.m. and 5 p.m.

OTS: Information Collection Comments, Chief Counsel's Office, Office of Thrift Supervision, 1700 G Street, NW., Washington, DC 20552, by fax to (202) 906-6518, or by e-mail to infocollection.comments@ots.treas.gov. OTS will post comments and the related index on the OTS Internet site at www.ots.treas.gov. In addition, interested persons may inspect comments at the Public Reading Room, 1700 G Street, NW., by appointment. To make an appointment, call (202) 906-5922, send an e-mail to publicinfo@ots.treas.gov, or send a facsimile transmission to (202) 906-7755.

OMB Desk Officer: Joseph F. Lackey, Jr., Office of Information and Regulatory Affairs, Office of Management and Budget, New Executive Office Building, Room 10235, Washington, DC 20503, or e-mail to jlackeyj@omb.eop.gov.

FOR FURTHER INFORMATION CONTACT: You can request additional information or a copy of the collection from:

OCC: John Ference, Acting OCC Clearance Officer, (202) 874-4824, Legislative & Regulatory Activities Division, Office of the Comptroller of the Currency, 250 E Street, SW., Washington, DC 20219.

Board: Cindy Ayouch, Federal Reserve Board Clearance Officer, (202) 452-3829, Division of Research and Statistics, Board of Governors of the Federal Reserve System, Washington, DC 20551. Telecommunications Device for the Deaf (TDD) users may contact (202) 263-4869, Board of Governors of the Federal Reserve System, Washington, DC 20551.

FDIC: Steven F. Hanft, FDIC Clearance Officer, (202) 898-3907, fax number (202) 898-3838, Legal Division (Consumer and Compliance Unit), Federal Deposit Insurance Corporation, Room MB-3064, 550 17th Street, NW., Washington, DC 20429.

OTS: Marilyn K. Burton, OTS Clearance Officer, at marilyn.burton@ots.treas.gov, (202) 906-6467, or facsimile number (202) 906-6518, Regulations and Legislation Division, Chief Counsel's Office, Office of Thrift Supervision, 1700 G Street, NW., Washington, DC 20552.

SUPPLEMENTARY INFORMATION:

Comments

The Agencies jointly requested comments on the proposed extension, without revision, of the information collections contained in the CRA Sunshine regulations on September 18, 2003 (68 FR 54785). No comments were received.

Titles

OCC: Disclosure and Reporting of CRA-Related Agreements (12 CFR 35).

Board: Disclosure and Reporting Requirements of CRA-Related Agreements (Reg G).

FDIC: CRA Sunshine (12 CFR 346).

OTS: CRA Sunshine (12 CFR 533).

OMB Control Numbers

OCC: 1557-0219.

Board: 7100-0299.

FDIC: 3064-1039.

OTS: 1550-0105.

Description

Section 48 of the Federal Deposit Insurance Act requires nongovernmental entities or persons (NGEPs), insured depository institutions, and affiliates of insured depository institutions that are parties to certain agreements that are in fulfillment of the Community Reinvestment Act of 1977 to make the agreements available to the public and the appropriate agency, and to file annual reports concerning the agreements with the appropriate agency.

The Agencies are proposing to extend OMB approval of the information collections associated with the regulations implementing the CRA Sunshine provisions of section 48. The regulations are found at 12 CFR part 35 (OCC), 12 CFR part 207 (Board), 12 CFR part 346 (FDIC), and 12 CFR part 533 (OTS). This submission involves no change to the regulations or to the information collection requirements.

The information collection requirements contained in the regulations are as follows:

Section __.6(b)(1) requires each nongovernmental entity or person (NGEP) and each insured depository institution or affiliate (IDI) that enters into a covered agreement to make a copy of the covered agreement available to any individual or entity upon request.

Section __.6(c)(1) requires each NGEP that is a party to a covered agreement to provide within 30 days after receiving a request from the relevant supervisory agency (1) a complete copy of the agreement; and (2) in the event the NGEP seeks confidential treatment of any portion of the agreement under FOIA, a copy of the agreement that excludes information for which confidential treatment is sought and an explanation justifying the request.

Sections __.6(d)(1)(i) and __.6(d)(1)(ii) require each IDI within 60 days of the end of each calendar quarter to provide each supervisory agency with either (1) a complete copy of each covered agreement entered into by the IDI or affiliate during the calendar quarter; and in the event the IDI seeks confidential treatment of any portion of the agreement under FOIA, a copy of the agreement that excludes information for which confidential treatment is sought and an explanation justifying the request; or (2) a list of all covered agreements entered into by the IDI or affiliate during the calendar quarter.

Section __.6(d)(2) requires an IDI or affiliate to provide any relevant supervisory agency with a complete copy and public version of any covered agreement, if the IDI submits a list of their covered agreements pursuant to section __.6(d)(1)(ii).

Section __.7(b) requires each NGEP and IDI that is a party to a covered agreement to file an annual report with each relevant supervisory agency concerning the disbursement, receipt, and uses of funds or other resources under the covered agreement.

Section __.7(f)(2)(ii) requires an IDI that receives an annual report from a NGEP pursuant to section __.7(f)(2)(i) to file the report with the relevant supervisory agency or agencies on behalf of the NGEP within 30 days.

Section __.4(b) requires an IDI that is party to a covered agreement that concerns any activity described in section __.4(a) of a CRA affiliate to notify each NGEP that is a party to the agreement that the agreement concerns a CRA affiliate.

Affected Public

Business or other for-profit; individuals.

Burden Estimates

The reduction in the estimated burden is due to a change in the method of estimation. The old estimate, made three years ago, was based on the assumption and projection that 50 percent of insured depository institutions would be parties to a covered agreement. The new estimate is based on the actual number of IDIs or their affiliates that reported covered agreements to the agencies in 2001 and 2002, and is therefore more accurate. The number of NGEP respondents is based on an assumption that one NGEP is a party to each covered agreement.

Estimated Number of Respondents

OCC: 25 IDI; 337 NGEP.

Board: 13 IDI; 78 NGEP.

FDIC: 13 IDI; 36 NGEP.

OTS: 24 IDI; 120 NGEP.

Estimated Number of Responses

OCC: 2,813.

Board: 637.

FDIC: 316.

OTS: 984.

Estimated Annual Burden Hours

OCC: 3,899 hours.

Board: 910 hours.

FDIC: 501.6 hours.

OTS: 1,416 hours.

Frequency of Response

On occasion.

All comments will become a matter of public record. Comments are invited on:

(a) Whether the collection is necessary for the proper performance of the functions of the Agency, including whether the information has practical utility;

(b) The accuracy of the Agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: December 8, 2003.
Mark J. Tenhundfeld,
Assistant Director, Legislative and Regulatory Activities Division, Office of the Comptroller of the Currency.

By order of the Board of Governors of the Federal Reserve System December 18, 2003.
Jennifer J. Johnson,
Secretary of the Board.

Dated in Washington, DC, this 15th day of December, 2003. Federal Deposit Insurance Corporation.
Robert E. Feldman,
Executive Secretary.

Dated: December 17, 2003.
By the Office of Thrift Supervision.
Richard M. Riccobono,
Deputy Director.

[FR Doc. 03-32118 Filed 12-30-03; 8:45 am]

BILLING CODE 4810-33-P; 6210-01-P; 6714-01-P; 6720-01-P